DEPARTMENT OF THE INTERIOR

Fish and Wildlife Service

Endangered and Threatened Species Permit Application

AGENCY: Fish and Wildlife Service, Interior.

ACTION: Notice of receipt of permit application.

SUMMARY: The following applicant has applied for a scientific research permit to conduct certain activities with endangered species pursuant to sections 10(a)(1)(A) and 10(c) of the Endangered Species Act of 1973, as amended (16 U.S.C. 1531, et seq.).

DATES: Written comments on this permit application must be received on or before May 19, 2003.

ADDRESSES: Written data or comments should be submitted to the Regional Director, U.S. Fish and Wildlife Service, Ecological Services, 1 Federal Drive, Fort Snelling, Minnesota 55111-4056.

FOR FURTHER INFORMATION CONTACT: Mr. Peter Fasbender, Regional Permits Coordinator, (612) 713-5343.

SUPPLEMENTARY INFORMATION:

Permit Number TE069282

Applicant: Theresa Sydney Burke

The applicant requests a permit to take (capture, handle, and harass) the Indiana bat (Myotis sodalis), gray bat (M. grisescens), and Virginia big-eared bat (Corynorhinus townsendii viginianus) throughout the States of Illinois, Indiana, Iowa, Michigan, Minnesota, Missouri, Ohio, and Wisconsin. The scientific research is aimed at enhancement of survival of the species in the wild.

Documents and other information submitted with this application are available for review by any party who requests a copy from the following office within 30 days of the date of publication of this notice: U.S. Fish and Wildlife Service, Ecological Services, 1 Federal Drive, Fort Snelling, Minnesota 55111-4056, peter_fasbender@fws.gov, telephone (612) 713-5343, or FAX (612) 713-5292. Documents and other information submitted with these applications are available for review, subject to the requirements of the Privacy Act and Freedom of Information Act, by any party who submits a written request for a copy of such documents. Please refer to the respective permit number when submitting comments.

Dated: March 31, 2003.
Robert J. Krska,
Acting Assistant Regional Director, Ecological Services, Region 3, Fort Snelling, Minnesota.

[FR Doc. 03-9572 Filed 4-17-03; 8:45 am]

BILLING CODE 4310-55-P